DEPARTMENT OF LABOR

Employment and Training Administration

Investigations Regarding Eligiblity To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of April 1, 2022, through April 30, 2022.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than ten days after publication in Federal Registration.

Initial Investigations

The following are initial investigations commenced following the receipt of a properly filed petition.

TA-W-No. | Subject firm | Location | Inv start date
98,245 | ALM Media LLC, Editorial Division | Erlanger, KY | 4/6/2022
98,246 | Home Products International-NA, Inc | Seymour, IN | 4/6/2022
98,247 | Hutchinson Precision Sealing Systems, Inc | Danielson, CT | 4/6/2022
98,248 | Mountain State Carbon LLC | Follansbee, WV | 4/6/2022
98,249 | Fastenal Company | Cranston, RI | 4/7/2022
98,250 | Ronstan International, Inc | Portsmouth, RI | 4/7/2022
98,251 | Salisbury by Honeywell | Smithfield, RI | 4/7/2022
98,252 | KPI Composites | West Burlington, IA | 4/8/2022
98,253 | VITECH Manufacturing, LP | Hopkinsville, KY | 4/8/2022
98,254 | Yeti Coolers, LLC | Austin, TX | 4/8/2022
98,255 | Integra Pool Covers | Burlington, IA | 4/11/2022
98,256 | Cardinal Health | Norfolk, NE | 4/13/2022
98,257 | NeuWave Medical Inc | Madison, WI | 4/13/2022
98,258 | Schneider Electric Buildings Americas, Inc | Clovis, CA | 4/13/2022
98,259 | Arkwright Advanced Coating Inc | Fiskeville, RI | 4/13/2022
98,260 | Lexington Law Firm | Phoenix, AZ | 4/14/2022
98,261 | Medtronic PLC | Warsaw, IN | 4/14/2022
98,262 | Sanofi US (Kadmon Holdings, Inc) | New York, NY | 4/14/2022
98,263 | Weiss Instruments, LLC | Holtsville, NY | 4/14/2022
98,264 | Hanwha Advanced Materials | Shelby, NC | 4/18/2022
98,265 | Peloton Interactive, Inc | Warren, MI | 4/18/2022
98,266 | Magna Exteriors Belvidere | Belvidere, IL | 4/20/2022
98,267 | Roseburg Forest Products | Dillard, OR | 4/20/2022
98,268 | Syncreon US-Automotive | Belvidere, IL | 4/20/2022
98,269 | Andersen Manufacturing Inc | Idaho Falls, ID | 4/21/2022
98,270 | Concentrix CVG Customer Management Group, Inc | Pocatello, ID | 4/21/2022
98,271 | Grass Valley USA, LLC | Grass Valley, CA | 4/21/2022
98,272 | Peloton Headquarters 2 | Plano, TX | 4/21/2022
98,273 | ReedGroup | Westminster, CO | 4/25/2022
98,274 | Grupo Antolin | Belvidere, IL | 4/26/2022
98,275 | SSB Manufacturing Company/Serta Simmons Bedding, LLC | Fredericksburg, VA | 4/26/2022
98,276 | Closet Maid | Pharr, TX | 4/27/2022
98,277 | GE Lighting A Savant Company | Bucyrus, OH | 4/28/2022
98,278 | Piston Automotive | Belvidere, IL | 4/28/2022
98,279 | Oakley Industries | Belvidere, IL | 4/29/2022
98,280 | SSB Manufacturing Company | Clear Lake, IA | 4/29/2022
98,281 | WestRock Company | Panama City, FL | 4/29/2022

A record of these investigations and petitions filed are available, subject to redaction, on the Department's website https://www.dol.gov/agencies/eta/tradeact under the searchable listing or by calling the Office of Trade Adjustment Assistance toll free at 888-365-6822.

Signed at Washington, DC this 5th day of May 2022.
Hope D. Kinglock,
Certifying Officer, Office of Trade Adjustment Assistance.

[FR Doc. 2022-10339 Filed 5-12-22; 8:45 am]

BILLING CODE 4510-FN-P